DEPARTMENT OF ENERGY

Federal Energy Regulatory Commission

[Docket No. PF10-18-000]

Ryckman Creek Resources, LLC; Notice of Intent To Prepare an Environmental Assessment for the Planned Ryckman Creek Storage Project and Request for Comments on Environmental Issues

July 15, 2010.

The staff of the Federal Energy Regulatory Commission (FERC or Commission) will prepare an environmental assessment (EA). The EA will discuss the environmental impacts of the Ryckman Creek Storage Project (Project) involving construction and operation of facilities by Ryckman Creek Resources, LLC (Ryckman Creek) in Uinta County, Wyoming. This EA will be used by the Commission in its decisionmaking process to determine whether the project is in the public convenience and necessity.

This notice announces the opening of the scoping process that will be used to gather input from the public and interested agencies on the Project. Your input will help the Commission staff and cooperating agencies determine which issues need to be evaluated in the EA. Please note that the scoping period for this Project will close on August 16, 2010. This is not your only public input opportunity; please refer to the Environmental Review Process flow chart in Appendix 1.

The FERC will be the lead Federal agency for the preparation of the EA. The EA will satisfy the requirements of the National Environmental Policy Act (NEPA) and will be used by the FERC to consider the environmental impacts that could result if it issues Ryckman Creek Certificate of Public Convenience and Necessity under section 7 of the Natural Gas Act.

The Bureau of Land Management (BLM) is participating as a cooperating agency in the preparation of the EA to satisfy its respective NEPA and planning responsibilities since the Project would cross Federal land under the jurisdiction of the Kemmerer Field Office in Wyoming. Under sections 17 and 28 of the Mineral Leasing Act of 1920 (30 U.S.C. 185(f) and 226(m)), the BLM has the authority to issue underground gas storage agreements and right-of-way grants for all affected Federal lands. This would be in accordance with title 43 Code of Federal Regulations (CFR) parts 2800, 2880, and 5105.5 subsequent 2800, 2880, and 3160-11 Manuals, and Handbook 2801-1. As a cooperating agency, the BLM would adopt the EA per Title 40 CFR 1506.3 to meet its responsibilities under NEPA in considering Ryckman Creek's application for a Right-of-Way Grant and Temporary Use Permit for the portion of the Project on Federal land, by the Kemmerer Field Office, High Desert District; and the issuance of an Underground Gas Storage Agreement by the Wyoming State Office, Reservoir Management Group, Casper, Wyoming.

This notice is being sent to the Commission's current environmental mailing list for this project. State and local government representatives are asked to notify their constituents of this planned project and encourage them to comment on their areas of concern.

If you are a landowner receiving this notice, you may be contacted by a pipeline company representative about the acquisition of an easement to construct, operate, and maintain the planned facilities. The company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Web site (http://www.ferc.gov). This fact sheet addresses a number of typically asked questions, including the use of eminent domain and how to participate in the Commission's proceedings.

Summary of the Planned Project

Ryckman Creek plans to convert a partially depleted oil field, known as the Ryckman Nugget Unit (Unit), into a natural gas storage field offering approximately 25 to 30 billion cubic feet (Bcf) of high deliverability working gas capacity in Uinta County, Wyoming. Ryckman Creek would also construct and operate about 3.9 miles of 16- to 20-inch-diameter pipeline header system connecting the existing Canyon Creek Compressor Station with the Unit. The Project will provide for the injection and withdrawal of natural gas into and out of the Unit via interconnects with the existing Kern River, Questar, and Overthrust/REX pipelines directly adjacent to the Canyon Creek Compressor Station. Combined, these three interconnect pipelines provide a total of 1.55 Bcf per day of take-away capacity. Prior to and concurrent with the development of the storage field, Ryckman Creek proposes to initiate enhanced oil recovery (EOR) operations of the petroleum reserves remaining in the Unit.

The Ryckman Creek Storage Project would consist of the following facilities, all in Unita County, Wyoming:

• Drill and complete up to five new horizontal injection/withdrawal (I/W) wells and convert an EOR horizontal withdrawal well, to be drilled in the initial EOR phase in 2010, to an I/W well for storage operations.

• The Project would require an additional 6,000 to 9,000 horsepower (hp), for a total of 28,000 to 31,000 hp at the existing Canyon Creek Compressor Station. One or two new electric-driven compressors would be added and four of the existing compressor units would be retrofitted.

• Create a central gas/liquids separation facility (Ryckman Plant) where all of the gas pipelines meet. It would contain a small electric-driven compressor to compress casing head gas, liquids separation equipment, and water and gas handling equipment.

• Construct a 3.9-mile-long high pressure header pipeline between the Ryckman Plant at the storage field and the Canyon Creek Compressor Station.

• Construct 4 mile(s) of new 8-inch-diameter storage field I/W lines.

• Convert one previously re-entered well to an observation well.

• Construct ancillary facilities, as necessary to operate the Project (e.g., valves, meters, filtration, safety, cleaning and inspection equipment).

• Construct temporary laydown and temporary support facilities. To the extent feasible, some of these would be located within the existing disturbed, fenced areas at either the Canyon Creek Compressor Station or on the original site of the previous oil and gas production operations on the Unit.

• Re-enter/re-complete up to 13 production wells (EOR development concurrent with storage operations).

• Re-enter/re-complete up to two saltwater disposal wells, one on the Unit and one off-Unit (the first of two saltwater disposal wells would be re-completed in 2010 as part of the initial EOR development).

• Re-use/construct production well gathering system (EOR development concurrent with storage operations).

• Construct a water/hydrocarbon liquids dew point control plant and a nitrogen reject unit (NRU) at the existing Canyon Creek Compressor Station.

• Certain facilities may need to be abandoned at the Canyon Creek Compressor Station.

The general location of the project facilities is shown in appendix 2.¹

¹ The appendices referenced in this notice are not being printed in the Federal Register. Copies of appendices were sent to all those receiving this notice in the mail and are available at http://www.ferc.gov using the link called “eLibrary” or from the Commission's Public Reference Room, 888 First Street, NE., Washington, DC 20426, or call (202) 502-8371. For instructions on connecting to eLibrary, refer to the last page of this notice.

Land Requirements for Construction

Construction of the planned facilities would disturb about 177 acres of land for the pipelines and wells. Following construction, about 128 acres would be maintained for permanent operation of the project's facilities; the remaining acreage would be restored and allowed to revert to former uses. Additional land would be required for construction and operation of the aboveground facilities, for access roads, and additional temporary workspaces.

The EA Process

The National Environmental Policy Act (NEPA) requires the Commission to take into account the environmental impacts that could result from an action whenever it considers the issuance of a Certificate of Public Convenience and Necessity. NEPA also requires us ² to discover and address concerns the public may have about proposals. This process is referred to as scoping. The main goal of the scoping process is to focus the analysis in the EA on the important environmental issues. By this notice, the Commission requests public comments on the scope of the issues to address in the EA. All comments received will be considered during the preparation of the EA.

² “We”, “us”, and “our” refer to the environmental staff of the Commission's Office of Energy Projects.

In the EA we will discuss impacts that could occur as a result of the construction and operation of the planned project under these general headings:

• Geology and soils;

• Land use;

• Water resources, fisheries, and wetlands;

• Cultural resources;

• Vegetation and wildlife including migratory birds;

• Air quality and noise;

• Endangered and threatened species; and

• Public safety.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before an application is filed with the FERC. As part of our pre-filing review, we have begun to contact some Federal and state agencies to discuss their involvement in the scoping process and the preparation of the EA. See Appendix 1 for an overview of the Commission's Pre-Filing Environmental Review Process.

Our independent analysis of the issues will be presented in the EA. The EA will be placed in the public record and, depending on the comments received during the scoping process, may be published and distributed to the public. A comment period will be allotted if the EA is published for review. We will consider all comments on the EA before we make our recommendations to the Commission. To ensure your comments are considered, please carefully follow the instructions in the Public Participation section beginning on page 6.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice. Currently, the BLM has expressed their intention to participate as a cooperating agency in the preparation of the EA to satisfy their NEPA responsibilities related to this project.

Consultations Under Section 106 of the National Historic Preservation Act

In accordance with the Advisory Council on Historic Preservation's implementing regulations, we are using this notice to solicit the views of the public on the project's potential effects on historic properties.³ We will document our findings on the impacts on cultural resources and summarize the status of consultations under section 106 of the National Historic Preservation Act in our EA.

³ The Advisory Council on Historic Preservation's regulations are at title 36, Code of Federal Regulations, part 800. Historic properties are defined in those regulations as any prehistoric or historic district, site, building, structure, or object included in or eligible for inclusion in the National Register for Historic Places.

Public Participation

You can make a difference by providing us with your specific comments or concerns about the project. Your comments should focus on the potential environmental effects, reasonable alternatives, and measures to avoid or lessen environmental impacts. The more specific your comments, the more useful they will be. To ensure that your comments are timely and properly recorded, please send your comments so that they will be received in Washington, DC on or before August 16, 2010.

For your convenience, there are three methods you can use to submit your comments to the Commission. The Commission encourages electronic filing of comments and has expert eFiling staff available to assist you at (202) 502-8258 or efiling@ferc.gov.

(1) You may file your comments electronically by using the Quick Comment feature, which is located at http:www.ferc.gov under the link called “Documents and Filings”. A Quick Comment is an easy method for interested persons to submit text-only comments on a project;

(2) You may file your comments electronically by using the “eFiling” feature that is listed under the “Documents and Filings” link. eFiling involves preparing your submission in the same manner as you would if filing on paper, and then saving the file on your computer's hard drive. You will attach that file to your submission. New eFiling users must first create an account by clicking on the links called “Sign up” or “eRegister”. You will be asked to select the type of filing you are making. A comment on a particular project is considered a “Comment on a Filing”; or

(3) You may file a paper copy of your comments at the following address: Kimberly D. Bose, Secretary, Federal Energy Regulatory Commission, 888 First Street, NE., Room 1A Washington, DC 20426.

Environmental Mailing List

The environmental mailing list includes Federal, state, and local government representatives and agencies; elected officials; environmental and public interest groups; Native American Tribes; other interested parties; and local newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

If the EA is published for distribution, copies will be sent to the environmental mailing list for public review and comment. If you would prefer to receive a paper copy of the document instead of the CD version or would like to remove your name from the mailing list, please return the attached Information Request (appendix 3).

Becoming an Intervenor

Once Ryckman Creek files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site. Please note that the Commission will not accept requests for intervenor status at this time. You must wait until a formal application for the project is filed with the Commission.

Additional Information

Additional information about the project is available from the Commission's Office of External Affairs, at (866) 208-FERC, or on the FERC Web site (http://www.ferc.gov) using the eLibrary link. Click on the eLibrary link, click on “General Search” and enter the docket number, excluding the last three digits in the Docket Number field (i.e., PF10-18-000. Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

Finally, public meetings or site visits will be posted on the Commission's calendar located at http://www.ferc.gov/EventCalendar/EventsList.aspx along with other related information.

Kimberly D. Bose,
Secretary.

[FR Doc. 2010-17881 Filed 7-21-10; 8:45 am]

BILLING CODE 6717-01-P